DEPARTMENT OF THE INTERIOR

Bureau of Land Management

[MT-090-1610-DO-048E]

Notice of Intent To Prepare a Resource Management Plan for the Malta Field Office and Associated Environmental Impact Statement

AGENCY: Bureau of Land Management, Interior.

ACTION: Notice of Intent.

SUMMARY: Pursuant to the Federal Land Policy and Management Act (FLPMA) and the National Environmental Policy Act (NEPA) the Bureau of Land Management (BLM), Malta Field Office intends to prepare a Resource Management Plan with an associated Environmental Impact Statement (RMP/EIS). The planning area is located in Blaine, Choteau, Glacier, Hill, Liberty, Phillips, Toole, and Valley Counties, Montana. The public scoping process will identify planning issues and develop planning criteria, including evaluation of the existing RMPs in the context of the needs and interests of the public. This notice initiates the public scoping process.

DATES: To be most helpful you should submit formal scoping comments within 60 days after publication of this Notice. However, collaboration with the public will continue throughout the process. All public meetings will be announced through the local news media, newsletters, and the BLM Web site (http://www.mt.blm.gov/mafo/rmp) at least 15 days prior to the event. The minutes and list of attendees for each meeting will be available to the public and open for 30 days to any participant who wishes to clarify the views they expressed.

ADDRESSES: Written comments should be sent to Bureau of Land Management, G. Claire Trent, RMP Project Manager, Malta Field Office, 501 S 2nd St. East, Malta, MT 59538; Fax—406-654-5150. Documents pertinent to this proposal may be examined at the Malta Field Office. Respondents' comments, including their names and street addresses, will be available for public review at the Malta Field Office during regular business hours from 7:45 a.m. to 4:30 p.m., Monday through Friday, except holidays, and may be published as part of the EIS. Individual respondents may request confidentiality. If you wish to withhold your name or street address from public review or from disclosure under the Freedom of Information Act, you must state this prominently at the beginning of your written comments. Such requests will be honored to the extent allowed by law. All submissions from organizations and businesses, and from individuals identifying themselves as representatives or officials of organizations or businesses, will be available for public inspection in their entirety.

FOR FURTHER INFORMATION CONTACT: For further information and/or to have your name added to our mailing list, contact G. Claire Trent at (406) 654-5124 or e-mail at: MT_Malta_RMP@blm.gov.

SUPPLEMENTARY INFORMATION: The BLM will work collaboratively with interested parties to identify the management decisions that are best suited to local, regional, and national needs and concerns. Public meetings will be held throughout the plan scoping and preparation period. In order to ensure local community participation and input, public scoping meeting locations will be rotated among the towns of Big Sandy, Billings, Browning, Chester, Chinook, Cut Bank, Fort Benton, Glasgow, Great Falls, Harlem, Helena, Havre, Hays, Malta, Opheim, Rocky Boy, Shelby, Turner, and Whitewater. Early participation is encouraged, and will help determine the future management of public lands administered by the Malta Field Office. In addition to the ongoing public participation process, formal opportunities for public participation will be provided upon publication of the Draft RMP/EIS, the final Proposed Plan, and Record of Decision.

The Bureau of Land Management's Malta Resource Management Plan and Environmental Impact Statement incorporates a planning area administered by three BLM offices: the Glasgow and Havre Field Stations, and the Malta Field Office. These offices were recently combined under the Malta Field Office [Notice of Montana/Dakotas Administrative Boundaries Resulting from the Havre Field Station Realignment and other Organizational Changes, (IM No. MT-2005-041)]. The land area to be covered under the Malta RMP/EIS is approximately two and a half million surface acres (~2,500,000) and three- and a half million subsurface acres (~3,500,000) of public land in the north-central tier of the State of Montana. Currently, land resources are managed under the following decisions: the 1988 West HiLine RMP as amended in 1992, for portions of the planning area administered by the Havre Field Station; and the 1994 Judith, Valley, Phillips (JVP) RMP for the remainder of the planning areas administered by the Malta Field Office and Glasgow Field Station. The current JVP RMP does not include oil and gas planning decisions. Oil and gas planning decisions for these lands are under the Management Framework Plans and the supporting National Environmental Policy Act (NEPA) document—Lewistown District Oil and Gas Environmental Assessment of BLM Leasing Program (September 1981).

Some of the BLM-managed public lands (226,920 acres) analyzed in the West HiLine and JVP RMPs have recently become a part of the Upper Missouri River Breaks National Monument, which will be managed under a separate RMP.

The RMP revision to be prepared for the public lands administered by the Malta Field Office will identify goals, objectives, standards, and guidelines for management of a variety of resources and values. The scope of the RMP will be comprehensive. The plan will specify actions, constraints, and general management practices necessary to achieve desired conditions. The plan will also identify any areas requiring special management such as Areas of Critical Environmental Concern (ACECs). Certain existing standards and guidelines and other BLM plans/plan amendments will be incorporated into the RMP.

In accordance with the National Energy Policy Act of 2005, the BLM is implementing long-term strategies to produce traditional sources of energy on Federal land in an environmentally compatible way, to increase renewable energy production on Federal land, and to involve all interested persons in the public planning process. The significant amount of oil and gas leasing, exploration, and development throughout this part of Montana is a major reason for revising these RMPs. The BLM is involved in managing more than 1500 oil and gas leases across the planning area, and an increasing interest in leasing has created a pressing need for new inventories and revised data. The BLM needs this information to evaluate oil and gas planning decision alternatives. Increased interest in developing alternative energy resources such as wind and solar power have also impacted the planning area, but these activities were not addressed in either current RMP. Also, in recent years, greater sage-grouse, black-tailed prairie dogs and prairie dog associate special status species (SSS) such as burrowing owls and mountain plovers, and migratory birds, in particular SSS associated with grassland habitats, will be addressed in the RMP planning process.

The BLM's decision to begin a new planning effort for the public lands in the Malta resource area is based on public and agency need for revised management guidance to address changing issues. Preliminary issues and management concerns have been identified by BLM, other agencies, and in meetings with individuals and user groups. They represent the BLM's information to date on the existing issues and concerns with current management. The major issue themes that will be addressed in the RMP effort include the following:

1. Energy development—(fluid minerals—oil and gas; alternative—wind);

2. Management of vegetation;

3. Management of wildlife;

4. Conservation and recovery of special status species;

5. Water quality, quantity, and aquatic species;

6. Travel management and access to public lands;

7. Management of areas with special values;

8. Availability and management of public lands for commercial uses; and

9. Land tenure adjustments.

After gathering public comments on what issues the plan should address, the suggested issues will be placed in one of three categories:

1. Issues to be resolved in the plan;

2. Issues resolved through policy or administrative action; or

3. Issues beyond the scope of this plan.

Rationale will be provided for each issue placed in categories two or three. In addition to these major issues, a number of management questions and concerns will be addressed in the plan. The public is encouraged to help identify these questions and concerns during the scoping phase.

An interdisciplinary approach will be used to develop the plan in order to consider the variety of resource issues and concerns identified. Disciplines involved in the planning process will include specialists with expertise in minerals and geology, forestry, range, fire and fuels, outdoor recreation, archaeology, paleontology, wildlife and fisheries, lands and realty, hydrology, soils, sociology, environmental justice and economics.

The following planning criteria have been proposed to guide development of the plan, avoid unnecessary data collection and analyses, and to ensure the plan is tailored to the issues. Other criteria may be identified during the public scoping process. After gathering comments on planning criteria, the BLM will finalize the criteria and provide feedback to the public on the criteria to be used throughout the planning process.

• The RMP/EIS will comply with FLPMA, NEPA, and all other applicable laws and regulations.

• The plan amendment will recognize the existence of valid existing rights.

• Lands covered in the RMP amendment will be public lands, which include split estate lands, managed by BLM. Decisions in the RMP amendment will be made only on lands managed by the BLM.

The RMP/EIS will utilize existing guidance where appropriate, and establish new guidance for managing the public lands within the Malta Field Office.

• The RMP/EIS will incorporate by reference the Standards for Rangeland Health and Guidelines for Livestock Grazing Management for Montana, North Dakota and South Dakota (August 1997), the Wind Energy Final Programmatic Environmental Impact Statement (June 2005), the Off-Highway Vehicle Environmental Impact Statement and Plan Amendment for Montana and the Dakotas (June 2003), and the Montana/Dakotas Statewide Fire Management Plan (September 2003).

• The RMP/EIS will incorporate by reference all prior Wilderness designations and Wilderness Study Area findings that affect public lands in the planning area.

• The RMP/EIS will recognize the State's responsibility to manage wildlife populations, including uses such as hunting and fishing.

• Planning decisions will strive to be compatible with the existing plans and policies of adjacent local, State, tribal, and Federal agencies as long as the decisions are in conformance with BLM legal mandates.

• The BLM will use a collaborative and multi-jurisdictional approach, where applicable throughout the planning process.

• The scope of analysis will be consistent with the level of analysis in current approved plans and in accordance with Bureau-wide standards and program guidance.

• Resource allocations will be reasonable and achievable within available technological and budgetary constraints.

• The lifestyles and concerns of area residents will be recognized in the plan.

Dated: June 9, 2006.
Mark Albers,
Malta Field Office Manager.

[FR Doc. E6-14669 Filed 9-5-06; 8:45 am]

BILLING CODE 4311-DN-P